DEPARTMENT OF ENERGY

Federal Energy Regulatory Commission

Notice of Application for Amendment of License and Soliciting Comments, Motions To Intervene, and Protests

August 26, 2003.

Take notice that the following application has been filed with the Commission and is available for public inspection:

a. Type of Application: Request for Temporary Variance of Minimum Flow Requirement.

b. Project No: 10440-085.

c. Date filed: August 15, 2003.

d. Applicant: Alaska Power and Telephone Company.

e. Name of Project: Black Bear Lake Hydroelectric Project.

f. Location: Black Bear Lake on Prince of Wales Island in southeast Alaska in Prince of Wales-Outer Ketchikan Borough.

g. Filed Pursuant to: 18 CFR 4.200.

h. Applicant Contact: Glen Martin, P.O. Box 222, Port Townsend, WA 98368.

i. FERC Contact: John K. Novak, john.novak@ferc.gov, (202)-502-6076.

j. Deadline for filing comments, motions to intervene and protest: September 29, 2003.

The Commission's Rules of Practice and Procedure require all interveners filing documents with the Commission to serve a copy of that document on each person in the official service list for the project. Further, if an intervener files comments or documents with the Commission relating to the merits of an issue that may affect the responsibilities of a particular resource agency, they must also serve a copy of the document on that resource agency.

k. Description of Application: The licensee is requesting a temporary waiver of the minimum flow requirements as set forth in Article 405 of the project license. Article 405 requires monthly minimum flows ranging from 9 cubic feet per second (cfs) to 24 cfs; for August and September the flow requirement is 17 cfs and 24 cfs, respectively. As a result of drought conditions in Southeast Alaska and Prince of Wales Island caused by lower than normal snow pack and minimal rainfall during the spring and summer months, the licensee has not been able to maintain the required August flows even though Black Bear Lake has been drawn down greater than the 15 feet allowed under the license. Currently the licensee has reduced flows to 4.5 cfs and requests approval to continue this release through the remainder of August, until inflow to Black Bear Lake increases. However, prolonged drought conditions may necessitate a continuation of reduced flow. The licensee has consulted with the appropriate resource agencies, and these agencies are in agreement with the licensee=s mode of operation during this drought.

l. The filings are available for review at the Commission in the Public Reference Room or may be viewed on the Commission's Web site at http://www.ferc.gov using the AFERRIS@ link. Enter the docket number excluding the last three digits in the docket number field to access the document. For assistance, call toll-free 1-866-208-3676 or e-mail FERCOnlineSupport@ferc.gov. For TTY, call (202) 502-8659. A copy is also available for inspection and reproduction at the addresses in item h.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing an original and eight copies to: The Secretary, Federal Energy Regulatory Commission, 888 First Street, NE., Washington, DC 20426. A copy of any motion to intervene must also be served upon each representative of the Applicant specified in the particular application.

Comments, protests and interventions may be filed electronically via the Internet in lieu of paper; see 18 CFR 385.2001(a)(1)(iii) and the instructions on the Commission's Web site under the “e-Filing” link. The Commission strongly encourages electronic filings.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Linda Mitry,
Acting Secretary.

[FR Doc. 03-22357 Filed 8-29-03; 8:45 am]

BILLING CODE 6717-01-P